ENVIRONMENTAL PROTECTION AGENCY

40 CFR Part 52

[OR-04-002; FRL-7835-3]

Approval and Promulgation of State Implementation Plans; Oregon

AGENCY: Environmental Protection Agency.

ACTION: Proposed rule.

SUMMARY: The Environmental Protection Agency (EPA) proposes to approve numerous revisions to the Oregon State Implementation Plan (SIP) in the State of Oregon Administrative Rules (OAR) relating to the inspection and maintenance (I/M) of motor vehicles. These revisions were submitted to EPA by the Director of the Oregon Department of Environmental Quality (ODEQ) on November 5, 1999, September 15, 2000, November 27, 2000, January 10, 2003, and April 22, 2004.

The revisions were submitted in accordance with the requirements of section 110 of the Clean Air Act (hereinafter CAA or Act).

DATES: Written comments must be received on or before December 22, 2004.

ADDRESSES: Comments may be mailed to: Wayne Elson, Environmental Protection Agency, Office of Air, Waste, and Toxics (OAWT-107), EPA, 1200 Sixth Avenue, Seattle, Washington 98101. Comments may also be submitted electronically or through hand delivery/courier. Please follow the detailed instructions in the Addresses section of the Direct Final Rule which is located in the Rules section of this Federal Register. To submit comments, please follow the detailed instructions described in the Direct Final Rule, SUPPLEMENTARY INFORMATION section, Part I, General Information.

Copies of the State's request and other information supporting this action are available for inspection during normal business hours at the following location: EPA, Office of Air, Waste, and Toxics (AWT-107), 1200 Sixth Avenue, Seattle, Washington 98101.

FOR FURTHER INFORMATION CONTACT: Wayne Elson, Office of Air, Waste, and Toxics (AWT-107), EPA, Seattle, Washington 98101, (206) 553-1463.

SUPPLEMENTARY INFORMATION: In the Final Rules section of this Federal Register, the EPA is approving the State's SIP submittal as a direct final rule without prior proposal because the Agency views this as a noncontroversial submittal and anticipates no adverse comments. If no adverse comments are received in response to this action, no further activity is contemplated.

If the EPA receives adverse comments, the direct final rule will be withdrawn and all public comments received will be addressed in a subsequent final rule based on this proposed rule. The EPA will not institute a second comment period. Any parties interested in commenting on this action should do so at this time. Please note that if we receive adverse comment on an amendment, paragraph, or section of this rule and if that provision may be severed from the remainder of the rule, we may adopt as final those provisions of the rule that are not the subject of an adverse comment.

For additional information, see the Direct Final rule which is located in the Rules section of this Federal Register.

Dated: October 26, 2004.
Julie M. Hagensen,
Acting Regional Administrator, Region 10.

[FR Doc. 04-25628 Filed 11-19-04; 8:45 am]

BILLING CODE 6560-50-P